DEPARTMENT OF TRANSPORTATION

Federal Aviation Administration

14 CFR Part 39

[Docket No. FAA-2015-1429; Directorate Identifier 2014-NM-246-AD; Amendment 39-18382; AD 2016-02-03]

RIN 2120-AA64

Airworthiness Directives; Airbus Airplanes

AGENCY: Federal Aviation Administration (FAA), Department of Transportation (DOT).

ACTION: Final rule.

SUMMARY: We are adopting a new airworthiness directive (AD) for certain Airbus Model A319-113, A319-114, A320-211, and A320-212 airplanes. This AD was prompted by a report that the aft mount pylon bolts of the CFM56-5 engines may have been installed using the wrong torque values. This AD requires identification of engines that were installed using the wrong torque values and re-torque of the four aft mount pylon bolts of those engines. We are issuing this AD to detect and correct improper torque of the aft mount pylon bolts, which, if combined with any maintenance damage, could lead to aft engine mount failure, possibly resulting in engine detachment and consequent reduced control of the airplane.

DATES: This AD becomes effective March 1, 2016.

The Director of the Federal Register approved the incorporation by reference of a certain publication listed in this AD as of March 1, 2016.

ADDRESSES: You may examine the AD docket on the Internet at http://www.regulations.gov/#!docketDetail;D=FAA-2015-1429; or in person at the Docket Management Facility, U.S. Department of Transportation, Docket Operations, M-30, West Building Ground Floor, Room W12-140, 1200 New Jersey Avenue SE., Washington, DC.

For service information identified in this final rule, contact Airbus, Airworthiness Office—EIAS, 1 Rond Point Maurice Bellonte, 31707 Blagnac Cedex, France; telephone: +33 5 61 93 36 96; fax: +33 5 61 93 44 51; email: account.airworth-eas@airbus.com; Internet http://www.airbus.com. You may view this referenced service information at the FAA, Transport Airplane Directorate, 1601 Lind Avenue SW., Renton, WA. For information on the availability of this material at the FAA, call 425-227-1221. It is also available on the Internet at http://www.regulations.gov by searching for and locating Docket No. FAA-2015-1429.

FOR FURTHER INFORMATION CONTACT: Sanjay Ralhan, Aerospace Engineer, International Branch, ANM-116, Transport Airplane Directorate, FAA, 1601 Lind Avenue SW., Renton, WA 98057-3356; telephone: 425-227-1405; fax: 425-227-1149.

Discussion

We issued a notice of proposed rulemaking (NPRM) to amend 14 CFR part 39 by adding an AD that would apply to certain Airbus Model A319-113, A319-114, A320-211, and A320-212 airplanes. The NPRM published in the Federal Register on June 15, 2015 (80 FR 34101). The NPRM was prompted by a report that the aft mount pylon bolts of the CFM56-5 engines may have been installed using the wrong torque values. The NPRM proposed to require identification of engines that were installed using the wrong torque values and re-torque of the four aft mount pylon bolts of those engines. We are issuing this AD to detect and correct improper torque of the aft mount pylon bolts, which, if combined with any maintenance damage, could lead to aft engine mount failure, possibly resulting in engine detachment and consequent reduced control of the airplane.

The European Aviation Safety Agency (EASA), which is the Technical Agent for the Member States of the European Union, has issued EASA AD 2014-0258, dated November 28, 2014 (referred to after this as the Mandatory Continuing Airworthiness Information, or “the MCAI”), to correct an unsafe condition for certain Airbus Model A319-113, A319-114, A320-211, and A320-212 airplanes. The MCAI states:

In the Aircraft Maintenance Manual (AMM) revision dated May 2013, a wrong torque value was added in AMM task 71-00-00-400-040-A01 “Installation of the power plant with Engine Positioner TWW75E”. Temporary Revisions (TR) dated March 2014 were published by Airbus to correct the information and with AMM revision dated May 2014, Task 71-00-00-400-040-A01 was corrected to include the correct values. Notwithstanding those actions, static and fatigue analyses have concluded that this undertorque scenario negatively impacts the assembly performance, reducing the aft mount capability.

This condition, if not corrected and if combined with any maintenance damage, could lead to aft engine mount failure, possibly resulting in engine detachment and consequent reduced control of the aeroplane.

For the reasons described above, this [EASA] AD requires identification of CFM56-5 engines (those listed in TCDS EASA.E.067 [http://easa.europa.eu/document-library/typecertificates/easae067]) that were installed by using the wrong torque data of AMM instructions mentioned above and re-torque of the four aft mount pylon bolts of those engines.

You may examine the MCAI in the AD docket on the Internet at http://www.regulations.gov/#!documentDetail;D=FAA-2015-1429-0002.

Comments

We gave the public the opportunity to participate in developing this AD. The following presents the comment received on the NPRM (80 FR 34101, June 15, 2015) and the FAA's response to each comment.

Request to Revise Paragraph (h) of the Proposed AD (80 FR 34101, June 15, 2015)

Delta Air Lines, Inc. (DAL) requested that we revise paragraph (h) of the proposed AD (80 FR 34101, June 15, 2015), by revising the wording to refer to the Aircraft Maintenance Manual (AMM), dated May 2013 instead of Airbus Service Bulletin A320-71-1063, including Appendix 01, dated August 13, 2014. DAL pointed out that paragraph (h) of the proposed AD required engine installation in accordance with Airbus Service Bulletin A320-71-1063, including Appendix 01, dated August 13, 2014. DAL also mentioned that Airbus Service Bulletin A320-71-1063, including Appendix 01, dated August 13, 2014, only has requirements for inspection and re-torque of the aft engine mount pylon bolts.

We agree to revise paragraph (h) of this AD because Airbus Service Bulletin A320-71-1063, including Appendix 01, dated August 13, 2014, does not contain installation instructions. We have revised paragraph (h) of this AD to specify that no person may install a CFM56-5 engine, on any airplane, unless accomplishing the actions specified in paragraph (g) of this AD.

Conclusion

We reviewed the relevant data, considered the comment received, and determined that air safety and the public interest require adopting this AD with the change described previously and minor editorial changes. We have determined that these minor changes:

• Are consistent with the intent that was proposed in the NPRM (80 FR 34101, June 15, 2015) for correcting the unsafe condition; and

• Do not add any additional burden upon the public than was already proposed in the NPRM (80 FR 34101, June 15, 2015).

We also determined that these changes will not increase the economic burden on any operator or increase the scope of this AD.

Related Service Information under 1 CFR part 51

Airbus has issued Airbus Service Bulletin A320-71-1063, including Appendix 01, dated August 13, 2014. The service information describes procedures to detect and correct improper torque of the aft mount pylon bolts. This service information is reasonably available because the interested parties have access to it through their normal course of business or by the means identified in the ADDRESSES section.

Costs of Compliance

We estimate that this AD affects 126 airplanes of U.S. registry.

We also estimate that it will take about 2 work-hours per product to comply with the basic requirements of this AD. The average labor rate is $85 per work-hour. Based on these figures, we estimate the cost of this AD on U.S. operators to be $21,420, or $170 per product.

Authority for this Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

Examining the AD Docket

You may examine the AD docket on the Internet at http://www.regulations.gov/#!docketDetail;D=FAA-2015-1429; or in person at the Docket Management Facility between 9 a.m. and 5 p.m., Monday through Friday, except Federal holidays. The AD docket contains this AD, the regulatory evaluation, any comments received, and other information. The street address for the Docket Operations office (telephone: 800-647-5527) is in the ADDRESSES section.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2016-02-03 Airbus: Amendment 39-18382. Docket No. FAA-2015-1429; Directorate Identifier 2014-NM-246-AD.

(a) Effective Date

This AD becomes effective March 1, 2016.

(b) Affected ADs

None.

(c) Applicability

This AD applies to the airplanes identified in paragraphs (c)(1) and (c)(2) of this AD, certificated in any category, all manufacturer serial numbers.

(1) Airbus Model A319-113 and -114 airplanes.

(2) Airbus Model A320-211 and -212 airplanes.

(d) Subject

Air Transport Association (ATA) of America Code 71, Powerplant.

(e) Reason

This AD was prompted by a report that the aft mount pylon bolts of the CFM56-5 engines may have been installed using the wrong torque values. We are issuing this AD to detect and correct improper torque of the aft mount pylon bolts, which, if combined with any maintenance damage, could lead to aft engine mount failure, possibly resulting in engine detachment and consequent reduced control of the airplane.

(f) Compliance

Comply with this AD within the compliance times specified, unless already done.

(g) Inspection for Incorrect Torque Values

Within 6 months or 1,500 flight cycles, whichever occurs first after the effective date of this AD, inspect to determine the method used to install the engines, in accordance with the Accomplishment Instructions of Airbus Service Bulletin A320-71-1063, including Appendix 01, dated August 13, 2014. A review of airplane maintenance records is acceptable in lieu of this inspection if the method used to install the engines can be conclusively determined from that review. For any engine replaced as specified in the Airbus A318/A319/A320/A321 Aircraft Maintenance Manual (AMM), Task 71-00-00-400-040-A01, “Installation of the Power Plant with Engine Positioner TWW 75E,” dated May 2013: Within 6 months or 1,500 flight cycles, whichever occurs first after the effective date of this AD, re-torque the 4 aft mount pylon bolts using a method approved by the Manager, International Branch, ANM-116, Transport Airplane Directorate, FAA; or the European Aviation Safety Agency (EASA); or Airbus's EASA Design Organization Approval (DOA).

Note 1 to paragraph (g) of this AD: Additional guidance for the re-torque can be found in Airbus A318/A319/A320/A321 AMM Task 71-00-00-400-040-A01, “Installation of the Power Plant with Engine Positioner TWW 75E,” dated May 2014.

(h) Parts Installation Limitation

As of the effective date of this AD, no person may install a CFM56-5 engine, on any airplane, unless the inspection, and, as applicable, the re-torque, is done as specified in paragraph (g) of this AD.

(i) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Sanjay Ralhan, Aerospace Engineer, International Branch, ANM-116, Transport Airplane Directorate, FAA, 1601 Lind Avenue SW., Renton, WA 98057-3356; telephone: 425-227-1405; fax: 425-227-1149. Information may be emailed to: 9-116-AMOC-REQUESTS@faa.gov. Before using any approved AMOC, notify your appropriate principal inspector, or lacking a principal inspector, the manager of the local flight standards district office/certificate holding district office. The AMOC approval letter must specifically reference this AD.

(2) Contacting the Manufacturer: For any requirement in this AD to obtain corrective actions from a manufacturer, the action must be accomplished using a method approved by the Manager, International Branch, ANM-116, Transport Airplane Directorate, FAA; or the EASA; or Airbus's EASA DOA. If approved by the DOA, the approval must include the DOA-authorized signature.

(j) Related Information

(1) Refer to Mandatory Continuing Airworthiness Information (MCAI) EASA AD 2014-0258, dated November 28, 2014, for related information. This MCAI may be found in the AD docket on the Internet at http://www.regulations.gov/#!documentDetail;D=FAA-2015-1429-0002.

(2) Service information identified in this AD that is not incorporated by reference is available at the addresses specified in paragraphs (k)(3) and (k)(4) of this AD.

(k) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Airbus Service Bulletin A320-71-1063, including Appendix 01, dated August 13, 2014.

(ii) Reserved.

(3) For service information identified in this AD, contact Airbus SAS, Airworthiness Office—EAW, 1 Rond Point Maurice Bellonte, 31707 Blagnac Cedex, France; telephone: +33 5 61 93 36 96; fax: +33 5 61 93 44 51; email: account.airworth-eas@airbus.com; Internet http://www.airbus.com.

(4) You may view this service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on January 11, 2016.
Michael Kaszycki,
Acting Manager, Transport Airplane Directorate, Aircraft Certification Service.

[FR Doc. 2016-01108 Filed 1-25-16; 8:45 am]

BILLING CODE 4910-13-P